DEPARTMENT OF DEFENSE

Department of the Army, Corps of Engineers

RIN 0710-AA71

Reissuance of Nationwide Permits

AGENCY: Army Corps of Engineers, DoD.

ACTION: Final notice; correction.

SUMMARY: The U.S. Army Corps of Engineers published a document in the Federal Register of February 21, 2012, concerning the reissuance of nationwide permits. This document contains corrections to that final notice.

ADDRESSES: U.S. Army Corps of Engineers, Attn: CECW-CO-R, 441 G Street NW., Washington, DC 20314-1000.

FOR FURTHER INFORMATION CONTACT: Mr. David Olson at 202-761-4922 or by email at david.b.olson@usace.army.mil or access the U.S. Army Corps of Engineers Regulatory Home Page at http://www.usace.army.mil/Missions/CivilWorks/RegulatoryProgramandPermits.aspx.

Corrections

In the Federal Register of February 21, 2012, in FR Doc. 2012-3687, the following corrections are made:

On page 10191, first column, correct the last sentence of the third full paragraph to read as follows: “States and Tribes will have 60 days to make their water quality certification decisions.”

On page 10211, third column, correct the second sentence of the second full paragraph to read as follows: “Under paragraph (b), we estimate that NWP 21 will be used approximately 47 times per year, although more activities may qualify for NWP 21 authorization if project proponents do additional avoidance and minimization to reduce losses of waters of the United States to satisfy the acreage and linear foot limits.”

On page 10281, third column, correct the first sentence of Note 1 to read as follows: “Utility lines constructed to transfer the energy from the land-based renewable generation facility to a distribution system, regional grid, or other facility are generally considered to be linear projects and each separate and distant crossing of a waterbody is eligible for treatment as a separate single and complete linear project.”

On page 10282, second column, correct the first sentence of Note 1 to read as follows: “Utility lines constructed to transfer the energy from the land-based collection facility to a distribution system, regional grid, or other facility are generally considered to be linear projects and each separate and distant crossing of a waterbody is eligible for treatment as a separate single and complete linear project.”

Dated: March 12, 2012.
Richard C. Lockwood,
Chief, Operations and Regulatory Directorate of Civil Works.

[FR Doc. 2012-6555 Filed 3-16-12; 8:45 am]

BILLING CODE 3720-52-P